DEPARTMENT OF DEFENSE

Department of the Army

[Docket ID: USA-2008-0030]

Privacy Act of 1974; System of Records

AGENCY: Department of the Army, DoD.

ACTION: Notice to Amend a System of Records

SUMMARY: The Department of the Army is amending a system of records notice in its existing inventory of record systems subject to the Privacy Act of 1974 (5 U.S.C. 552a), as amended.

DATES: This proposed action will be effective without further notice on August 25, 2008 unless comments are received which result in a contrary determination.

ADDRESSES: Department of the Army, Freedom of Information/Privacy Division, U.S. Army Records Management and Declassification Agency, 7701 Telegraph Road, Casey Building, Suite 144, Alexandria, VA 22325-3905.

FOR FURTHER INFORMATION CONTACT: Ms. Vicki Short at (703) 428-6508.

SUPPLEMENTARY INFORMATION: The Department of the Army systems of records notices subject to the Privacy Act of 1974 (5 U.S.C. 552a), as amended, have been published in the Federal Register and are available from the address above.

The specific changes to the record system being amended are set forth below followed by the notice, as amended, published in its entirety. The proposed amendments are not within the purview of subsection (r) of the Privacy Act of 1974 (5 U.S.C. 552a), as amended, which requires the submission of a new or altered system report.

Dated: July 17, 2008.
Patricia L. Toppings
OSD Federal Register Liaison Officer, Department of Defense.

A0614-100/200 SAIG

SYSTEM NAME:

Inspector General Personnel System (February 22, 1993, 58 FR 10002).

CHANGES:

* * * * *

AUTHORITY FOR MAINTENANCE OF THE SYSTEM:

Delete entry and replace with “10 U.S.C. 3013, Secretary of the Army; 10 U.S.C. 3020, Inspector General; Army Regulation 20-1, Inspector General Activities and Procedures and E.O. 9397 (SSN).”

* * * * *

STORAGE:

Delete entry and replace with “Paper files in folders and electronic storage media.”

* * * * *

A0614-100/200 SAIG

SYSTEM NAME:

Inspector General Personnel System.

SYSTEM LOCATION:

U.S. Army Inspector General Agency, Headquarters, Department of the Army, 1700 Army Pentagon, Washington, DC 20310-1700.

CATEGORIES OF INDIVIDUALS COVERED BY THE SYSTEM:

Any person assigned and/or detailed to the Offices of Inspectors General/Inspector General positions in Department of the Army and certain Department of Defense and Joint activities.

CATEGORIES OF RECORDS IN THE SYSTEM:

Name, rank/grade, Social Security Number, education, duty position, organization of assignment, date assigned, estimated departure date, job specialty, and relevant career data.

AUTHORITY FOR MAINTENANCE OF THE SYSTEM:

10 U.S.C. 3013, Secretary of the Army; 10 U.S.C. 3020, Inspector General; Army Regulation 20-1, Inspector General Activities and Procedures and E.O. 9397 (SSN).

PURPOSE(S):

To manage assignment of members to Inspector General duties.

ROUTINE USES OF RECORDS MAINTAINED IN THE SYSTEM, INCLUDING CATEGORIES OF USERS AND THE PURPOSES OF SUCH USES:

In addition to those disclosures generally permitted under 5 U.S.C. 552a(b) of the Privacy Act, these records or information contained therein may specifically be disclosed outside the DoD as a routine use pursuant to 5 U.S.C. 552a(b)(3) as follows:

The ‘Blanket Routine Uses’ set forth at the beginning of the Army's compilation of systems of records notices also apply to this system.

POLICIES AND PRACTICES FOR STORING, RETRIEVING, ACCESSING, RETAINING, AND DISPOSING OF RECORDS IN THE SYSTEM:

STORAGE:

Paper files in folders and electronic storage media.

RETRIEVABILITY:

By individual's name or Social Security Number.

SAFEGUARDS:

Files are stored in locked containers accessible only to authorized persons with an official need-to-know. Computer data base access is limited by terminal control and a password system to authorized persons with an official need-to-know.

RETENTION AND DISPOSAL:

Information is retained until individual transfers or is separated; historical data remain in automated media for 4 years.

SYSTEM MANAGER(S) AND ADDRESS:

Office of the Inspector General, Headquarters, Department of the Army, 1700 Army Pentagon, Washington, DC 20310-1700.

NOTIFICATION PROCEDURE:

Individuals seeking to determine if information about themselves is contained in this record system should address written inquiries to the Office of the Inspector General, Headquarters, Department of the Army, 1700 Army Pentagon, Washington, DC 20310-1700.

Individual should provide the full name, address, telephone number, Social Security Number, and signature.

RECORD ACCESS PROCEDURES:

Individuals seeking access to records about themselves contained in this record system should address written inquiries to the Office of the Inspector General, Headquarters, Department of the Army, 1700 Army Pentagon, Washington, DC 20310-1700.

Individual should provide the full name, address, telephone number, Social Security Number, and signature.

CONTESTING RECORD PROCEDURES:

The Army's rules for accessing records, and for contesting contents and appealing initial agency determinations are contained in Army Regulation 340-21; 32 CFR part 505; or may be obtained from the system manager.

RECORD SOURCE CATEGORIES:

From the individual, Army records and reports, and other sources providing or containing pertinent information.

EXEMPTIONS CLAIMED FOR THE SYSTEM:

None.

[FR Doc. E8-17029 Filed 7-24-08; 8:45 am]

BILLING CODE 5001-06-P